LIBRARY OF CONGRESS

Copyright Royalty Board

[Docket No. 2011-3 CRB Phonorecords II]

Adjustment or Determination of Compulsory License Rates for Making and Distributing Phonorecords

AGENCY: Copyright Royalty Board, Library of Congress.

ACTION: Notice announcing commencement of proceeding with request for Petitions to Participate.

SUMMARY: The Copyright Royalty Judges are announcing the commencement of the proceeding ¹ to determine the reasonable rates and terms for making and distributing phonorecords. The Copyright Royalty Judges also are announcing the date by which a party who wishes to participate in the rate proceeding must file its Petition to Participate and the accompanying $150 filing fee.

¹ The prior proceeding was captioned as “DPRA” (which stands for “Digital Phonorecord Rate Adjustment”). Hereinafter, this and future proceedings will be captioned as “Phonorecords” followed by the appropriate Roman numeral.

DATES: February 4, 2011.

ADDRESSES: An original, five copies and an electronic copy in Portable Document Format (PDF) on a CD of the Petition to Participate, along with the $150 filing fee, may be delivered to the Copyright Royalty Board by either mail or hand delivery. Petitions to Participate and the $150 filing fee may not be delivered by an overnight delivery service other than the U.S. Postal Service Express Mail. If by mail (including overnight delivery), Petitions to Participate, along with the $150 filing fee, must be addressed to: Copyright Royalty Board, P.O. Box 70977, Washington, DC 20024-0977. If hand delivered by a private party, Petitions to Petition, along with the $150 filing fee, must be brought between 8:30 a.m. and 5 p.m. to the Library of Congress, James Madison Memorial Building, Room LM-401, 101 Independence Avenue, SE., Washington, DC 20559-6000. If delivered by a commercial courier, Petitions to Participate, along with the $150 filing fee, must be delivered between 8:30 a.m. and 4 p.m. to the Congressional Courier Acceptance Site, located at 2nd and D Street, NE., Washington, DC. The envelope must be addressed to Copyright Royalty Board, Library of Congress, James Madison Memorial Building, Room LM-403, 101 Independence Avenue, SE., Washington, DC 20559-6000.

FOR FURTHER INFORMATION CONTACT: LaKeshia Keys, CRB Program Specialist, by telephone at (202) 707-7658 or e-mail at crb@loc.gov.

SUPPLEMENTARY INFORMATION:

Background

Section 804(b)(4) of the Copyright Act, title 17 of the United States Code, allows a party to file with the Copyright Royalty Judges a petition to adjust or determine reasonable rates and terms for the making and distribution of phonorecords, including digital phonorecord deliveries, under 17 U.S.C. 115, every five years, starting in the year 2006. A proceeding was commenced in 2006, 71 FR 1454 (January 9, 2006); on January 26, 2009, the Judges announced the royalty rates and terms for the section 115 compulsory license. 74 FR 4510 (January 26, 2009). Thus, in accordance with section 804(b)(4), a party may file a petition in 2011. However, no petition has been filed; consequently, section 803(b)(1)(A)(i)(V) requires the Judges to publish in the Federal Register by no later than January 5, 2011, a notice commencing this proceeding. Today's notice fulfills this requirement.

Petitions to Participate

Petitions to Participate must be filed in accordance with § 351.1(b) of the Judges' regulations. See 37 CFR 351.1(b). Petitions to Participate must be accompanied by the $150 filing fee. Cash will not be accepted; therefore, parties must pay the filing fee with a check or money order made payable to the “Copyright Royalty Board.” If a check received in payment of the filing fee is returned for lack of sufficient funds, the corresponding Petition to Participate will be dismissed.

Note that in accordance with 37 CFR 350.2 (Representation), only attorneys who are members of the bar in one or more states and in good standing will be allowed to represent parties before the Copyright Royalty Judges, unless a party is an individual who represents herself or himself.

Dated: December 22, 2010.
William J. Roberts, Jr.,
U.S. Copyright Royalty Judge.

[FR Doc. 2010-32634 Filed 1-4-11; 8:45 am]

BILLING CODE 1410-72-P